DEPARTMENT OF DEFENSE

Department of the Army

Notice of Intent To Grant Exclusive Patent License to Hydro-Québec; Montreal Canada

AGENCY: Department of the Army, DoD.

ACTION: Notice of intent.

SUMMARY: In compliance with 35 U.S.C. 209(e) and 37 CFR 404.7(a)(1)(i), the Department of the Army hereby gives notice of its intent to grant to Hydro Québec; a corporation having its principle place of business at 75 René-Lévesque Blvd. West Montréal, Québec, H2Z 1A4, Canada, exclusive license relative to the following U.S. Patent and Patent Application Titled “High Voltage Lithium Ion Positive Electrode Material”:

• United States Utility Patent Application Serial No. US 14/281,924

• United States Provisional Patent Application Serial No. 61/911,700

• All foreign counterpart applications

DATES: The prospective exclusive license may be granted unless within fifteen (15) days from the date of this published notice, the U.S. Army Research Laboratory receives written objections including evidence and argument that establish that the grant of the license would not be consistent with the requirements of 35 U.S.C. 209 and 37 CFR 404.7. Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

ADDRESSES: Send written objections to Thomas Mulkern, U.S. Army Research Laboratory, Office of Research and Technology Applications, ATTN: RDRL-DPP, B321, Aberdeen Proving Ground, MD 21005-5425.

FOR FURTHER INFORMATION CONTACT: Thomas Mulkern, (410) 278-0889.

SUPPLEMENTARY INFORMATION: None.

Brenda S. Bowen,
Army Federal Register Liaison Officer.

[FR Doc. 2015-09170 Filed 4-20-15; 8:45 am]

BILLING CODE 3710-08-P